DEPARTMENT OF HEALTH AND HUMAN SERVICES

Centers for Disease Control and Prevention

[CDC-2019-0015, Docket Number NIOSH-153-E]

Publication of Skin Notation Profile Documents for Chlorodiphenyl (54% Chlorine) (CAS: 11097-69-1), Diacetyl and 2,3-Pentanedione (CAS: 431-03-8; 600-14-6), Dioxane (CAS: 123-91-1), Beta Chloroprene (CAS: 126-99-8), and 2,4-Toluene Diisocyanate, 2,6-Toluene Diisocyanate, and 2,4- and 2,6-Toluene Diisocyanate Mixture (CAS: 584-84-9; 91-08-7; 26471-62-5 (as a Mixture))

AGENCY: The Centers for Disease Control and Prevention (CDC), Department of Health and Human Services (HHS).

ACTION: Notice of availability.

SUMMARY: The National Institute for Occupational Safety and Health (NIOSH) in the Centers for Disease Control and Prevention (CDC), an operating division of the Department of Health and Human Services (HHS), announces the availability of five documents, the Skin Notation Profiles for Chlorodiphenyl (54% chlorine) (CAS: 11097-69-1), Diacetyl and 2,3-Pentanedione (CAS: 431-03-8; 600-14-6), Dioxane (CAS: 123-91-1), beta Chloroprene (CAS: 126-99-8), and 2,4-Toluene diisocyanate, 2,6-Toluene diisocyanate, and 2,4- and 2,6-Toluene diisocyanate mixture (CAS: 584-84-9; 91-08-7; 26471-62-5 (as a mixture)).

DATES: The final documents were published on July 7, 2022 on the CDC website.

ADDRESSES: The documents may be obtained at the following links:

Chlorodiphenyl (54% chlorine) (CAS: 11097-69-1): https://www.cdc.gov/niosh/docs/2022-118/;

Diacetyl and 2,3-Pentanedione (CAS: 431-03-8; 600-14-6): https://www.cdc.gov/niosh/docs/2022-116/;

Dioxane (CAS: 123-91-1): https://www.cdc.gov/niosh/docs/2022-114/;

beta Chloroprene (CAS: 126-99-8): https://www.cdc.gov/niosh/docs/2022-115/;

2,4-Toluene diisocyanate, 2,6-Toluene diisocyanate, and 2,4- and 2,6-Toluene diisocyanate mixture (CAS: 584-84-9; 91-08-7; 26471-62-5 (as a mixture)): https://www.cdc.gov/niosh/docs/2022-117/.

FOR FURTHER INFORMATION CONTACT: Naomi Hudson, NIOSH, 1090 Tusculum Ave., MS C-15, Cincinnati, OH 45226; Telephone 513-533-8388; Email: iuz8@cdc.gov.

SUPPLEMENTARY INFORMATION: On March 15, 2019, NIOSH published a request for public comment in the Federal Register [Federal Register Number 2019-04794] [84 FR 9524] on the draft versions of the following skin notation profile documents:

Beta-Chloroprene (CAS: 126-99-8)

Cyclohexanol (CAS: 108-93-0)

Cyclohexanone (CAS: 108-94-1)

Cyclonite (CAS: 121-82-4)

Dioxane (CAS: 123-91-1)

Diacetyl/2,3-Pentanedione (CAS: 431-03-8; 600-14-6)

Diethylenetriamine (CAS: 111-40-0)

Chlorodiphenyl (42% chlorine) (CAS: 53469-21-9)

Chlorodiphenyl (54% chlorine) (CAS: 11097-69-1)

Toluene diisocyanates (CAS: 584-84-9; 91-08-7; 26471-62-5)

This notice announces that five of these documents have been finalized and published: Chlorodiphenyl (54% chlorine) (CAS: 11097-69-1), Diacetyl and 2,3-Pentanedione (CAS: 431-03-8; 600-14-6), Dioxane (CAS: 123-91-1), beta Chloroprene (CAS: 126-99-8), and 2,4-Toluene diisocyanate, 2,6-Toluene diisocyanate, and 2,4- and 2,6-Toluene diisocyanate mixture (CAS: 584-84-9; 91-08-7; 26471-62-5 (as a mixture)). All comments received were carefully reviewed and addressed, where relevant. In response to comments received, revisions were made to clarify the data used by NIOSH in its support of the development of the skin notation assignments for these chemicals. NIOSH Skin Notation Profiles, Group E Responses to Peer Review and Public Comments can be found in the Supporting Documents section on www.regulations.gov for the CDC-2019-0015 docket.

The other five documents were previously published in the Federal Register [Federal Register Number 2020-25300] [85 FR 73481] on November 18, 2020 (https://www.federalregister.gov/documents/2020/11/18/2020-25300/skin-notation-profiles-for-chlorodiphenyl-42-chlorine-cas-53469-21-9-cyclohexanol-cas-108-93-0): Chlorodiphenyl (42% chlorine) (CAS: 53469-21-9), Cyclohexanol (CAS: 108-93-0), Cyclohexanone (CAS: 108-94-1), Cyclonite (CAS: 121-82-4), and Diethylenetriamine (CAS: 111-40-0).

John J. Howard,
Director, National Institute for Occupational Safety and Health, Centers for Disease Control and Prevention.

[FR Doc. 2022-14906 Filed 7-12-22; 8:45 am]

BILLING CODE 4163-18-P